DEPARTMENT OF ENERGY

Federal Energy Regulatory Commission

[Docket No. RP99-301-040]

ANR Pipeline Company; Notice Negotiated Rates

January 8, 2002.

Take notice that on January 3, 2002, ANR Pipeline Company (ANR) tendered for filing amendments to fourteen (14) service agreements that have previously been accepted as negotiated rate agreements.

ANR states that the amendments reflect (1) the inclusion of provisions allowing for maximum daily quantity changes associated with fuel use changes; and (2) revised exhibits effectuating a change in shippers' storage quantities under Rate Schedule FSS. ANR also notes that certain agreements have been amended and are no longer negotiated rate agreements.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

C.B. Spencer,
Acting Secretary.

[FR Doc. 02-823 Filed 1-11-02; 8:45 am]

BILLING CODE 6717-01-P